SMALL BUSINESS ADMINISTRATION

[Disaster Declaration #14811 and #14812]

Louisiana Disaster Number LA-00065

AGENCY: U.S. Small Business Administration.

ACTION: Amendment 1.

SUMMARY: This is an amendment of the Presidential declaration of a major disaster for the State of Louisiana (FEMA-4277-DR), dated 08/14/2016.

Incident: Severe Storms and Flooding.

Incident Period: 08/11/2016 and continuing.

Effective Date: 08/16/2016.

Physical Loan Application Deadline Date: 10/13/2016.

EIDL Loan Application Deadline Date: 05/15/2017.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the Presidential disaster declaration for the State of Louisiana, dated 08/14/2016 is hereby amended to include the following areas as adversely affected by the disaster:

Primary Counties: (Physical Damage and Economic Injury Loans):

Acadia, Ascension, East Feliciana, Iberia, Lafayette, Pointe Coupee, Saint Landry, Vermilion.

Contiguous Counties: (Economic Injury Loans Only):

Louisiana: Assumption, Avoyelles, Cameron, Concordia, Evangeline, Jefferson Davis, Saint James, Saint Martin, Saint Mary, West Feliciana.

Mississippi: Wilkinson.

All other information in the original declaration remains unchanged.

(Catalog of Federal Domestic Assistance Numbers 59002 and 59008)

James E. Rivera,
Associate Administrator for Disaster Assistance.

[FR Doc. 2016-20468 Filed 8-25-16; 8:45 am]

BILLING CODE 8025-01-P